DEPARTMENT OF JUSTICE

Federal Bureau of Investigation

[OMB Number: 1110-NEW]

Agency Information Collection Activities; Proposed eCollection eComments Requested; New Collection

AGENCY: Office of Private Sector, Federal Bureau of Investigation, Department of Justice.

ACTION: 30 Day notice.

SUMMARY: The Department of Justice, Federal Bureau of Investigation, Office of Private Sector, is submitting the following information collection request to the Office of Management and Budget (OMB) for review and approval in accordance with the Paperwork Reduction Act of 1995.

DATES: The Department of Justice encourages public comment and will accept input until September 13, 2018.

FOR FURTHER INFORMATION CONTACT: If you have additional comments especially on the estimated public burden or associated response time, suggestions, or need a copy of the proposed information collection instrument with instructions or additional information, please contact Michael Whitaker, Supervisory Special Agent, Federal Bureau of Investigation, Office of Private Sector, 935 Pennsylvania Ave. NW, Washington, DC 20535, MJWhitaker@fbi.gov, 202-324-3000. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Office of Private Sector, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this Information Collection

1. Type of Information Collection: New Collection.

2. The Title of the Form/Collection: Annual Private Sector Survey.

3. The agency form number, if any, and the applicable component of the Department sponsoring the collection: Un-Numbered. The applicable component within the Department of Justice is the Federal Bureau of Investigation, Office of Private Sector.

4. Affected public who will be asked or required to respond, as well as a brief abstract: Survey will affect businesses or other for-profit, and not-for-profit institutions. The survey is intended to measure the effectiveness of the FBI's Office of Private Sector's engagement efforts with the Private Sector.

5. An estimate of the total number of respondents and the amount of time estimated for an average respondent to respond: Approximately 600 respondents. Average response time: 15 minutes per respondent.

6. An estimate of the total public burden (in hours) associated with the collection: 150 hours (15 min × 600 respondents).

If additional information is required contact: Melody Braswell, Department Clearance Officer, United States Department of Justice, Justice Management Division, Policy and Planning Staff, Two Constitution Square, 145 N Street NE, 3E.405A, Washington, DC 20530.

Dated: August 9, 2018.
Melody Braswell,
Department Clearance Officer for PRA, U.S. Department of Justice.

[FR Doc. 2018-17406 Filed 8-13-18; 8:45 am]

BILLING CODE 4410-02-P